DEPARTMENT OF HEALTH AND HUMAN SERVICES

Office of the National Coordinator for Health Information Technology; American Health Information Community Personalized Healthcare Workgroup Meeting

ACTION: Announcement of meeting.

SUMMARY: This notice announces the 3rd meeting of the American Health Information Community Personalized Healthcare Workgroup in accordance with the Federal Advisory Committee Act (Pub. L. 93-463, 5 U.S.C., App.).

DATES: March 12, 2007, from 9 a.m. to 3 p.m.

ADDRESSES: Hubert H. Humphrey Building (200 Independence Avenue, SW., Washington, DC 20201, Conference Room 705A). Please bring photo ID for entry to a Federal building.

FOR FURTHER INFORMATION CONTACT: http://www.hhs.gov/healthit/ahic/healthcare/.

SUPPLEMENTARY INFORMATION: The Workgroup will begin discussion on possible common data standards to incorporate interoperable, clinically useful genetic laboratory test data, family history information, and analytical tools into Electronic Health Records (EHR) to support clinical decisionmaking for the health care provider and patient.

Instructions to participate via Web cast are posted at http://www.hhs.gov/healthit/ahic/healthcare/phe_instruct.html.

Dated: February 14, 2007.
Judith Sparrow,
Director, American Health Information Community, Office of Programs and Coordination, Office of the National Coordinator for Health Information Technology.

[FR Doc. 07-813 Filed 2-22-07; 8:45 am]

BILLING CODE 4150-24-M